DEPARTMENT OF LABOR

Employee Benefits Security Administration

Working Group on Plan Fees and Reporting on Form 5500, Advisory Council on Employee Welfare and Pension Benefit Plans; Notice of Meeting

Pursuant to the authority contained in section 512 of the Employee Retirement Income Security Act of 1974 (ERISA), 29 U.S.C. 1142, a public meeting will be held on Wednesday, August 4, 2004, of the Advisory Council on Employee Welfare and Pension Benefit Plans Working Group assigned to study plan fees and reporting on the Form 5500. The working group will study plan fees as reported on the Form 5500 to assess plan sponsors' understanding of the fees they are paying and the reporting requirements.

The session will take place in Room N3437 A-C, U.S. Department of Labor Building, 200 Constitution Avenue, NW., Washington, DC 20210. The purpose of the meeting, which will begin at 11 a.m. and end at approximately 4 p.m. with a one-hour lunch break at 12:30 p.m., is for the working group to hear from select witnesses on the issue.

Organizations or members of the public wishing to submit a written statement pertaining to the topic may do so by submitting 20 copies on or before July 23, 2004, to Debra Golding, ERISA Advisory Council, U.S. Department of Labor, Room N-5656, 200 Constitution Avenue, NW., Washington, DC 20210. Statements received on or before July 23, 2004, will be included in the record of the meeting. Individuals or representatives of organizations wishing to address the Working Group should forward their request to Debra Golding at the above address or via telephone at (202) 693-8664. Oral presentations will be limited to 20 minutes, time permitting, but an extended statement may be submitted for the record. Individuals with disabilities who need special accommodations should contact Debra Golding by July 23 at the address indicated in this notice.

Signed in Washington, DC, this 16th day of July, 2004.
Ann L. Combs,
Assistant Secretary, Employee Benefits Security Administration.

[FR Doc. 04-16691 Filed 7-21-04; 8:45 am]

BILLING CODE 4510-29-M